DEPARTMENT OF THE INTERIOR

Bureau of Land Management

[LLNVW01000.L144000000.FR0000.241A; 14110008; TAS: 18X; N-60081 MO #4500129834]

Notice of Realty Action: Recreation and Public Purposes (R&PP) Act Classification, Nevada

AGENCY: Bureau of Land Management, Interior.

ACTION: Notice of realty action.

SUMMARY: The Bureau of Land Management (BLM) has examined certain public lands in Pershing County, Nevada, and has found them suitable for classification for conveyance to Pershing County under the provisions of the R&PP Act, as amended, Section 7 of the Taylor Grazing Act, and Executive Order No. 6910. The lands consist of 10 acres, must conform to the official plat of survey, and are legally described below. Pershing County proposes to continue use of the land as a cemetery, and to maintain, preserve, and improve the cemetery.

DATES: Submit written comments regarding this classification on or before December 23, 2019. Comments may be mailed or hand delivered to the BLM office address below, or faxed to (775) 623-1740. The BLM will not consider comments received by telephone or email.

ADDRESSES: Mail written comments to David Kampwerth, Field Manager, BLM Humboldt River Field Office, 5100 East Winnemucca Boulevard, Winnemucca, Nevada 89445.

Information including but not limited to a development and management plan and documentation relating to compliance with applicable environmental and cultural resource laws, is available for review during business hours, 7:30 a.m. to 4:30 p.m. Pacific Standard Time, Monday through Friday, except during Federal holidays, at the BLM Humboldt River Field Office at the address above.

FOR FURTHER INFORMATION CONTACT: Debbie Dunham, Realty Specialist, by telephone at 775-623-1598, or by email at blm_nv_email_winnemucca_district_office@blm.gov. Persons who use a telecommunications device for the deaf may call the Federal Relay Service (FRS) at 1-800-877-8339 to leave a message or question for the above individual. The FRS is available 24 hours a day, 7 days a week. You will receive a reply during normal business hours.

SUPPLEMENTARY INFORMATION: Pershing County has not applied for more than the 6,400-acre limitation for recreation uses in a year, nor for more than 640 acres for each of the programs involving public resources other than recreation. Pershing County has submitted a statement in compliance with the applicable regulations. The lands under consideration are not needed for any Federal purposes. The lands examined and identified as suitable for conveyance under the R&PP Act are legally described as:

Mount Diablo Meridian, Nevada

T. 30 N, R. 34 E,

Sec. 24, SW¼NW¼SE¼SW¼, SE¼NW¼SE¼SW¼, NE¼SW¼SE¼SW¼, NW¼SW¼SE¼SW¼.

The area described contains 10 acres.

Conveyance of the lands for recreational or public purposes use is in conformance with the BLM Winnemucca District Resource Management Plan dated May 2015, and would be in the public interest.

All interested parties will receive a copy of this Notice once it is published in the Federal Register. A copy of the Federal Register Notice will be published in the newspaper of local circulation once a week for three consecutive weeks. The regulations at 43 CFR 2741 addressing requirements and procedures for conveyances under the R&PP Act do not require a public meeting.

Upon publication of this Notice in the Federal Register, the lands will be segregated from all other forms of appropriation under the public land laws, including locations under the mining laws, except for lease or conveyance under the R&PP Act and leasing under the mineral leasing laws. The segregative effect shall terminate upon issuance of a patent, upon final rejection of the application, or 18 months from the date of this notice, whichever occurs first.

The conveyance of the land, will be subject to the following terms, conditions, and reservations:

1. Rights-of-way thereon for ditches and canals constructed by the authority of the United States Act of August 30, 1890 (26 Stat. 391; 43 U.S.C. 945).

2. Provisions of the R&PP Act and to all applicable regulations of the Secretary of the Interior.

3. All mineral deposits in the land so patented, and the right to prospect for, mine, and remove such deposits from the same under applicable law and regulations as established by the Secretary of the Interior are reserved to the United States, together with all necessary access and exit rights.

4. Lease or conveyance of the parcel is subject to valid existing rights.

5. An appropriate indemnification clause protecting the United States from claims arising out of the patentee's use, occupancy, or occupation on the leased/patented lands.

6. Any other reservations that the authorized officer determines appropriate to ensure public access and proper management of Federal lands and interests therein.

7. A limited reversionary provision stating that title shall revert to the United States upon a finding, after notice and opportunity for a hearing, that, without the approval of the Secretary of the Interior or his delegate, the patentee or its approved successor attempts to transfer title to or control over the lands to another, the lands have been devoted to a use other than that for which the lands were conveyed, the lands have not been used for the purpose for which the lands were conveyed for a 5-year period, or the patentee has failed to follow the approved development plan or management plan. No portion of the land shall, under any circumstance, revert to the United States if any such portion has been used for solid waste disposal or for any other purpose which may result in the disposal, placement, or release of any hazardous substance.

Classification Comments: Interested persons may submit comments involving the suitability of the land for development and use as a cemetery, while maintaining, preserving, and improving the cemetery. Comments on the classification are restricted to whether the land is physically suited for the proposal, whether the use will maximize the future use or uses of the land, whether the use is consistent with local planning and zoning, or if the use is consistent with state and Federal programs.

Application Comments: Interested persons may submit comments regarding the specific use proposed in the application and plan of development and management, whether the BLM followed proper administrative procedures in reaching the decision, or any other factor not directly relating to the suitability of the lands for the use as a cemetery, while maintaining, preserving, and improving the cemetery.

Any adverse comments will be reviewed by the BLM Nevada State Director or other authorized official of the Department of the Interior, who may sustain, vacate, or modify this realty action. In the absence of any adverse comments, the classification will become effective on January 6, 2020. The lands will not be offered for conveyance until after the classification becomes effective.

Before including your address, phone number, email address, or other personal identifying information in any comment, be aware that your entire comment, including your personal identifying information, may be made publicly available at any time. While you can ask us in your comment to withhold your personal identifying information from public review, we cannot guarantee that we will be able to do so.

(Authority: 43 CFR 2741.5)

David Kampwerth,
Field Manager, Humboldt River Field Office.

[FR Doc. 2019-24221 Filed 11-5-19; 8:45 am]

BILLING CODE 4310-HC-P